DEPARTMENT OF ENERGY

Federal Energy Regulatory Commission

Combined Notice of Filings #3

Take notice that the Commission received the following electric rate filings:

Docket Numbers: ER25-1149-000.

Applicants: PJM Interconnection, L.L.C.

Description: § 205(d) Rate Filing: Original GIA, Service Agreement No. 7505; AF2-031 to be effective 1/3/2025.

Filed Date: 2/3/25.

Accession Number: 20250203-5214.

Comment Date: 5 p.m. ET 2/24/25.

Docket Numbers: ER25-1150-000.

Applicants: Upper Missouri G. & T. Electric Cooperative, Inc.

Description: § 205(d) Rate Filing: Revised Wholesale Power Contracts to be effective 3/1/2025.

Filed Date: 2/3/25.

Accession Number: 20250203-5239.

Comment Date: 5 p.m. ET 2/24/25.

Docket Numbers: ER25-1151-000.

Applicants: Midcontinent Independent System Operator, Inc.

Description: § 205(d) Rate Filing: 2025-02-03_SA 1838 METC-Holtec Palisades 2nd Rev GIA (J102) to be effective 2/28/2025.

Filed Date: 2/3/25.

Accession Number: 20250203-5242.

Comment Date: 5 p.m. ET 2/24/25.

Docket Numbers: ER25-1152-000.

Applicants: Mid-Atlantic Interstate Transmission, LLC.

Description: § 205(d) Rate Filing: MAIT submits amended IA, SA No. 4577 to be effective 4/7/2025.

Filed Date: 2/3/25.

Accession Number: 20250203-5257.

Comment Date: 5 p.m. ET 2/24/25.

Docket Numbers: ER25-1153-000.

Applicants: AEP Texas Inc.

Description: § 205(d) Rate Filing: AEPTX-BRP Blue Topaz 2 1st Amended Generation Interconnection Agreement to be effective 1/20/2025.

Filed Date: 2/3/25.

Accession Number: 20250203-5264.

Comment Date: 5 p.m. ET 2/24/25.

Docket Numbers: ER25-1154-000.

Applicants: Tri-State Generation and Transmission Association, Inc.

Description: Petition for Limited Waiver of Tri-State Generation and Transmission Association, Inc.

Filed Date: 1/31/25.

Accession Number: 20250131-5548.

Comment Date: 5 p.m. ET 2/21/25.

Docket Numbers: ER25-1155-000.

Applicants: 63SU 8ME LLC.

Description: § 205(d) Rate Filing: Revised Market-Based Rate Tariff Filing to be effective 2/5/2025.

Filed Date: 2/4/25.

Accession Number: 20250204-5053.

Comment Date: 5 p.m. ET 2/25/25.

Docket Numbers: ER25-1156-000.

Applicants: Assembly Solar I, LLC.

Description: § 205(d) Rate Filing: Revised Market-Based Rate Tariff Filing to be effective 2/5/2025.

Filed Date: 2/4/25.

Accession Number: 20250204-5055.

Comment Date: 5 p.m. ET 2/25/25.

Docket Numbers: ER25-1157-000.

Applicants: Big River Solar, LLC.

Description: § 205(d) Rate Filing: Revised Market-Based Rate Tariff Filing to be effective 2/5/2025.

Filed Date: 2/4/25.

Accession Number: 20250204-5056.

Comment Date: 5 p.m. ET 2/25/25.

Docket Numbers: ER25-1158-000.

Applicants: 62SK 8ME LLC.

Description: § 205(d) Rate Filing: Revised Market-Based Rate Tariff Filing to be effective 2/5/2025.

Filed Date: 2/4/25.

Accession Number: 20250204-5057.

Comment Date: 5 p.m. ET 2/25/25.

Docket Numbers: ER25-1159-000.

Applicants: Cuyama Solar, LLC.

Description: § 205(d) Rate Filing: Revised Market-Based Rate Tariff Filing to be effective 2/5/2025.

Filed Date: 2/4/25.

Accession Number: 20250204-5058.

Comment Date: 5 p.m. ET 2/25/25.

Docket Numbers: ER25-1160-000.

Applicants: Dressor Plains Solar, LLC.

Description: § 205(d) Rate Filing: Revised Market-Based Rate Tariff Filing to be effective 2/5/2025.

Filed Date: 2/4/25.

Accession Number: 20250204-5059.

Comment Date: 5 p.m. ET 2/25/25.

Docket Numbers: ER25-1161-000.

Applicants: Gray Hawk Solar, LLC.

Description: § 205(d) Rate Filing: Revised Market-Based Rate Tariff Filing to be effective 2/5/2025.

Filed Date: 2/4/25.

Accession Number: 20250204-5060.

Comment Date: 5 p.m. ET 2/25/25.

Docket Numbers: ER25-1162-000.

Applicants: Iris Solar, LLC.

Description: § 205(d) Rate Filing: Revised Market-Based Rate Tariff Filing to be effective 2/5/2025.

Filed Date: 2/4/25.

Accession Number: 20250204-5063.

Comment Date: 5 p.m. ET 2/25/25.

Docket Numbers: ER25-1163-000.

Applicants: North Star Solar PV LLC.

Description: § 205(d) Rate Filing: Revised Market-Based Rate Tariff Filing to be effective 2/5/2025.

Filed Date: 2/4/25.

Accession Number: 20250204-5065.

Comment Date: 5 p.m. ET 2/25/25.

Docket Numbers: ER25-1164-000.

Applicants: Portal Ridge Solar B, LLC.

Description: § 205(d) Rate Filing: Revised Market-Based Rate Tariff Filing to be effective 2/5/2025.

Filed Date: 2/4/25.

Accession Number: 20250204-5066.

Comment Date: 5 p.m. ET 2/25/25.

Docket Numbers: ER25-1165-000.

Applicants: Portal Ridge Solar C, LLC.

Description: § 205(d) Rate Filing: Revised Market-Based Rate Tariff Filing to be effective 2/5/2025.

Filed Date: 2/4/25.

Accession Number: 20250204-5067.

Comment Date: 5 p.m. ET 2/25/25.

Docket Numbers: ER25-1166-000.

Applicants: Prairie State Solar, LLC.

Description: § 205(d) Rate Filing: Revised Market-Based Rate Tariff Filing to be effective 2/5/2025.

Filed Date: 2/4/25.

Accession Number: 20250204-5069.

Comment Date: 5 p.m. ET 2/25/25.

Docket Numbers: ER25-1167-000.

Applicants: Rancho Seco Solar II LLC.

Description: § 205(d) Rate Filing: Revised Market-Based Rate Tariff Filing to be effective 2/5/2025.

Filed Date: 2/4/25.

Accession Number: 20250204-5072.

Comment Date: 5 p.m. ET 2/25/25.

Docket Numbers: ER25-1168-000.

Applicants: Red Horse III, LLC.

Description: § 205(d) Rate Filing: Revised Market-Based Rate Tariff Filing to be effective 2/5/2025.

Filed Date: 2/4/25.

Accession Number: 20250204-5073.

Comment Date: 5 p.m. ET 2/25/25.

Docket Numbers: ER25-1169-000.

Applicants: Red Horse Wind 2, LLC.

Description: § 205(d) Rate Filing: Revised Market-Based Rate Tariff Filing to be effective 2/5/2025.

Filed Date: 2/4/25.

Accession Number: 20250204-5074.

Comment Date: 5 p.m. ET 2/25/25.

Docket Numbers: ER25-1170-000.

Applicants: St. James Solar, LLC.

Description: § 205(d) Rate Filing: Revised Market-Based Rate Tariff Filing to be effective 2/5/2025.

Filed Date: 2/4/25.

Accession Number: 20250204-5076.

Comment Date: 5 p.m. ET 2/25/25.

Docket Numbers: ER25-1171-000.

Applicants: TPE Alta Luna, LLC.

Description: § 205(d) Rate Filing: Revised Market-Based Rate Tariff Filing to be effective 2/5/2025.

Filed Date: 2/4/25.

Accession Number: 20250204-5077.

Comment Date: 5 p.m. ET 2/25/25.

Docket Numbers: ER25-1172-000.

Applicants: Tri-State Generation and Transmission Association, Inc.

Description: § 205(d) Rate Filing: Amendment to Service Agreement FERC No. 864 to be effective 1/7/2025.

Filed Date: 2/4/25.

Accession Number: 20250204-5098.

Comment Date: 5 p.m. ET 2/25/25.

Docket Numbers: ER25-1173-000.

Applicants: Niagara Mohawk Power Corporation, New York Independent System Operator, Inc.

Description: § 205(d) Rate Filing: New York Independent System Operator, Inc. submits tariff filing per 35.13(a)(2)(iii: NYISO—National Grid Joint 205: 2nd Amended SGIA Darby Solar SA2556 to be effective 1/27/2025.

Filed Date: 2/4/25.

Accession Number: 20250204-5101.

Comment Date: 5 p.m. ET 2/25/25.

Docket Numbers: ER25-1174-000.

Applicants: Tri-State Generation and Transmission Association, Inc.

Description: § 205(d) Rate Filing: Amendment to Rate Schedule FERC No. 40 to be effective 4/6/2025.

Filed Date: 2/4/25.

Accession Number: 20250204-5118.

Comment Date: 5 p.m. ET 2/25/25.

Docket Numbers: ER25-1176-000.

Applicants: Midcontinent Independent System Operator, Inc.

Description: § 205(d) Rate Filing: 2025-02-04_SA 4439 ATC-Copper Country Power I FSA (J1814) to be effective 4/6/2025.

Filed Date: 2/4/25.

Accession Number: 20250204-5123.

Comment Date: 5 p.m. ET 2/25/25.

Docket Numbers: ER25-1178-000.

Applicants: Alabama Power Company, Georgia Power Company, Mississippi Power Company.

Description: Tariff Amendment: Alabama Power Company submits tariff filing per 35.15: Dallas County Solar LGIA Termination Filing to be effective 2/4/2025.

Filed Date: 2/4/25.

Accession Number: 20250204-5133.

Comment Date: 5 p.m. ET 2/25/25.

Docket Numbers: ER25-1179-000.

Applicants: Alabama Power Company, Georgia Power Company, Mississippi Power Company.

Description: Tariff Amendment: Alabama Power Company submits tariff filing per 35.15: Brenneman Solar LGIA Termination Filing to be effective 2/4/2025.

Filed Date: 2/4/25.

Accession Number: 20250204-5135.

Comment Date: 5 p.m. ET 2/25/25.

Docket Numbers: ER25-1181-000.

Applicants: Southwest Power Pool, Inc.

Description: § 205(d) Rate Filing: Revs to Bylaws to Update the Nomination Process for the SPC and Members Comm. to be effective 4/15/2025.

Filed Date: 2/4/25.

Accession Number: 20250204-5159.

Comment Date: 5 p.m. ET 2/25/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, local communities, Tribal members and others, access publicly available information and navigate Commission processes. For public inquiries and assistance with making filings such as interventions, comments, or requests for rehearing, the public is encouraged to contact OPP at (202) 502-6595 or OPP@ferc.gov.

Dated: February 4, 2025.
Carlos D. Clay,
Deputy Secretary.

[FR Doc. 2025-02440 Filed 2-10-25; 8:45 am]

BILLING CODE 6717-01-P